DEPARTMENT OF HOMELAND SECURITY

Coast Guard

33 CFR Part 165

[Docket No. USCG-2012-1036]

Safety Zones, Recurring Marine Events in Captain of the Port Long Island Sound Zone

AGENCY: Coast Guard, DHS.

ACTION: Notice of enforcement of regulation.

SUMMARY: The Coast Guard will enforce ten safety zones in the Sector Long Island Sound area of responsibility on the date and time listed in the table below. This action is necessary to provide for the safety of life on navigable waterways during the events. During the enforcement periods, no person or vessel may enter the safety zones without permission of the Captain of the Port (COTP) Sector Long Island Sound or designated representative.

DATES: The regulation in 33 CFR 165.151, Table 1, will be enforced during the dates and times listed in the SUPPLEMENTARY INFORMATION section.

FOR FURTHER INFORMATION CONTACT: If you have questions on this notice of enforcement, call or email Chief Petty Officer Katherine Linnick, Waterways Management Division, U.S. Coast Guard Sector Long Island Sound; telephone 203-468-4565, email Katherine.E.Linnick@uscg.mil.

SUPPLEMENTARY INFORMATION: The Coast Guard will enforce the safety zones listed in 33 CFR 165.151, Table 1, on the following dates and times:

7.7 South Hampton Fresh Air Home Fireworks | • Date: July 5, 2019.
| • Rain Date: July 6, 2019.
| • Time: 8:30 p.m. to 10:30 p.m.
| • Location: Waters of Shinnecock Bay, Southampton, NY in approximate position, 40°51′48″ N, 072°26′30″ W (NAD 83).
7.8 Westport Police Athletic League Fireworks | • Date: July 3, 2019.
| • Rain Date: July 5, 2019.
| • Time: 8:00 p.m. to 10:00 p.m.
| • Location: Waters off Compo Beach, Westport, CT in approximate position, 41°06′15″ N, 073°20′57″ W (NAD 83).
7.19 Jones Beach State Park Fireworks | • Date: July 4, 2019.
| • Time: 9:00 p.m. to 10:00 p.m.
| • Location: Waters off Jones Beach State Park, Wantagh, NY in approximate position 40°34′56.676″ N, 073°30′31.186″ W (NAD 83).
7.27 City of Long Beach Fireworks | • Date: July 5, 2019.
| • Rain Date: July 6-7, 2019.
| • Time: 9:00 p.m. to 10:00 p.m.
| • Location: Waters off Riverside Blvd., City of Long Beach, NY in approximate position 40°34′38.77″ N, 073°39′41.32″ W (NAD 83).
7.31 Clam Shell Foundation Fireworks | • Date: July 13, 2019.
| • Rain Date: July 14, 2019.
| • Time: 9:00 p.m. to 10:00 p.m.
| • Location: Waters of Three Mile Harbor, East Hampton, NY in approximate position 41°1′15.49″ N, 072°11′27.50″ W (NAD 83).
7.33 Groton Long Point Yacht Club Fireworks | • Date: July 20, 2019.
| • Rain Date: July 21, 2019.
| • Time: 9:00 p.m. to 10:00 p.m.
| • Location: Waters of Long Island Sound, Groton, CT in approximate position 41°18′05″ N, 072°02′08″ W (NAD 83).
7.34 Devon Yacht Club Fireworks | • Date: July 6, 2019.
| • Rain Date: July 7, 2019.
| • Time: 9:00 p.m. to 10:00 p.m.
| • Location: Waters of Napeague Bay, in Block Island Sound off Amagansett, NY in approximate position 40°59′41.40″ N, 072°06′08.70″ W (NAD 83).
7.40 Rowayton Fireworks | • Date: July 4, 2019.
| • Rain Date: July 5, 2019.
| • Time: 9:00 p.m. to 10:00 p.m.
| • Location: Waters of Long Island Sound south of Bayley Beach Park, Rowayton, CT in approximate position 41°03′11″ N, 073°26′41″ W (NAD 83).
8.4 Town of Babylon Fireworks | • Date: August 17, 2019.
| • Rain Date: August 18, 2019.
| • Time: 9:00 p.m. to 10:00 p.m.
| • Location: Waters off of Cedar Beach Town Park, Babylon, NY in approximate position 40°37′53″ N, 073°20′12″ W (NAD 83).

Under the provisions of 33 CFR 165.151, the events listed above are established as safety zones. During the enforcement period, persons and vessels are prohibited from entering into, transiting through, mooring, or anchoring within these safety zones unless they receive permission from the COTP or designated representative.

This notice of enforcement is issued under authority of 33 CFR 165 and 5 U.S.C. 552(a). In addition to this notice of enforcement in the Federal Register, the Coast Guard will provide the maritime community with advance notification of this enforcement period via the Local Notice to Mariners or marine information broadcasts. If the COTP determines that these safety zones need not be enforced for the full duration stated in this notice of enforcement, a Broadcast Notice to Mariners may be used to grant general permission to enter the regulated area.

Dated: May 7, 2019.
K.B. Reed,
Captain, U.S. Coast Guard, Captain of the Port Long Island Sound.

[FR Doc. 2019-12719 Filed 6-14-19; 8:45 am]

BILLING CODE 9110-04-P